DEPARTMENT OF COMMERCE

National Oceanic and Atmospheric Administration

RIN 0648-XE048

North Pacific Fishery Management Council; Public Meetings

AGENCY: National Marine Fisheries Service (NMFS), National Oceanic and Atmospheric Administration (NOAA), Commerce.

ACTION: Notice of public meetings.

SUMMARY: The North Pacific Fishery Management Council (Council) Electronic Monitoring Workgroup (EMWG) will meet in Anchorage, AK.

DATES: The meetings will be held July 30-31st, 2015, from 8 a.m. to 5 p.m.

ADDRESSES: The meetings will be held at the Coast International Inn, 3450 Aviation Avenue, Anchorage, AK.

Council address: North Pacific Fishery Management Council, 605 W. 4th Ave., Suite 306, Anchorage, AK 99501-2252.

FOR FURTHER INFORMATION CONTACT: Diana Evans, Council staff; phone: (907) 271-2809.

SUPPLEMENTARY INFORMATION: The agenda will include: (a) Discussion of 2015 research results; (b) discussion of the draft 2016 EM pre-implementation proposal; (c) update on budget; (d) discussion of EM research on pot cod vessels; (e) any other business. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: July 10, 2015.
Tracey L. Thompson,
Acting Deputy Director, Office of Sustainable Fisheries, National Marine Fisheries Service.

[FR Doc. 2015-17344 Filed 7-14-15; 8:45 am]

BILLING CODE 3510-22-P